DEPARTMENT OF TRANSPORTATION

Office of the Secretary

Application of Gulfstream Air Charter, Inc. for Commuter Air Carrier Authorization

AGENCY: Department of Transportation.

ACTION: Notice of Order to Show Cause (Order 2005-12-14), Docket OST-2005-21348.

SUMMARY: The Department of Transportation is directing all interested persons to show cause why it should not issue an order finding Gulfstream Air Charter, Inc., fit, willing, and able, and awarding it a commuter air carrier authorization to engage in scheduled passenger air transportation as a commuter air carrier.

DATES: Persons wishing to file objections should do so no later than January 6, 2006.

ADDRESSES: Objections and answers to objections should be filed in Docket OST-2005-21348 and addressed to U.S. Department of Transportation, Docket Operations, (M-30, Room PL-401), 400 Seventh Street, SW., Washington, DC 20590, and should be served upon the parties listed in Attachment A to the order.

FOR FURTHER INFORMATION CONTACT: Lauralyn J. Remo, Air Carrier Fitness Division (X-56, Room 6401), U.S. Department of Transportation, 400 Seventh Street, SW., Washington, DC 20590, (202) 366-9721.

Dated: December 23, 2005.
Michael W. Reynolds,
Acting Assistant Secretary for Aviation and International Affairs.

[FR Doc. E5-8125 Filed 12-29-05; 8:45 am]

BILLING CODE 4910-62-P